DEPARTMENT OF THE TREASURY

Alcohol and Tobacco Tax and Trade Bureau

[Docket No. TTB-2019-0001]

Proposed Information Collections; Comment Request (No. 76)

AGENCY: Alcohol and Tobacco Tax and Trade Bureau (TTB); Treasury.

ACTION: Notice and request for comments.

SUMMARY: As part of our continuing effort to reduce paperwork and respondent burden, and as required by the Paperwork Reduction Act of 1995, we invite comments on the proposed or continuing information collections listed below in this notice.

DATES: We must receive your written comments on or before January 17, 2020.

ADDRESSES: As described below, you may send comments on the information collections described in this document using the “Regulations.gov” online comment form for this document, or you may send written comments via U.S. mail or hand delivery. We no longer accept public comments via email or fax.

• Internet: To submit comments online, use the comment form for this document posted within Docket No. TTB-2019-0001 on the “Regulations.gov” e-rulemaking website at https://www.regulations.gov;

• U.S. Mail: Send comments to the Paperwork Reduction Act Officer, Regulations and Rulings Division, Alcohol and Tobacco Tax and Trade Bureau, 1310 G Street NW, Box 12, Washington, DC 20005.

• Hand Delivery/Courier: Delivery comments to the Paper Reduction Act Officer, Regulations and Rulings Division, Alcohol and Tobacco Tax and Trade Bureau, 1310 G Street NW, Suite 400, Washington, DC 20005.

Please submit separate comments for each specific information collection described in this document. You must reference the information collection's title, form or recordkeeping requirement number, and OMB control number (if any) in your comment.

You may view copies of this document, the information collections described in it and any associated instructions, and all comments received in response to this document within Docket No. TTB-2019-0001 at https://www.regulations.gov. A link to that docket is posted on the TTB website at https://www.ttb.gov/forms/comment-on-form.shtml. You may also obtain paper copies of this document, the information collections described in it and any associated instructions, and any comments received in response to this document by contacting Michael Hoover at the addresses or telephone number shown below.

FOR FURTHER INFORMATION CONTACT: Michael Hoover, Regulations and Rulings Division, Alcohol and Tobacco Tax and Trade Bureau, 1310 G Street NW, Box 12, Washington, DC 20005; 202-453-1039, ext. 135; or informationcollections@ttb.gov (please do not submit comments to this email address).

SUPPLEMENTARY INFORMATION:

Request for Comments

The Department of the Treasury and its Alcohol and Tobacco Tax and Trade Bureau (TTB), as part of their continuing effort to reduce paperwork and respondent burden, invite the general public and other Federal agencies to comment on the proposed or continuing information collections described below in this notice, as required by the Paperwork Reduction Act of 1995 (44 U.S.C. 3501 et seq.).

Comments submitted in response to this notice will be included or summarized in our request for Office of Management and Budget (OMB) approval of the relevant information collection. All comments are part of the public record and subject to disclosure. Please do not include any confidential or inappropriate material in your comments.

We invite comments on: (a) Whether an information collection is necessary for the proper performance of the agency's functions, including whether the information has practical utility; (b) the accuracy of the agency's estimate of the information collection's burden; (c) ways to enhance the quality, utility, and clarity of the information collected; (d) ways to minimize the information collection's burden on respondents, including through the use of automated collection techniques or other forms of information technology; and (e) estimates of capital or start-up costs and costs of operation, maintenance, and purchase of services to provide the requested information.

An agency may not conduct or sponsor, and a person is not required to respond to, a collection of information unless the collection of information has a valid OMB control number.

Information Collections Open for Comment

Currently, we are seeking comments on the following forms, letterhead applications or notices, recordkeeping requirements, questionnaires, or surveys:

OMB Control No. 1513-0016

Title: Drawback on Wines Exported.

TTB Form Number: TTB F 5120.24.

Abstract: The Internal Revenue Code of 1986, as amended, (IRC) at 26 U.S.C. 5062(b), provides, in general, that exporters of taxpaid domestic wine may claim “drawback” (refund) of the Federal excise tax paid or determined on the exported wine. Under the TTB regulations, exporters use form TTB F 5120.24 to document the wine's exportation and to submit drawback claims for the exported wine. TTB uses the provided information to determine if the exported wine is eligible for drawback and to verify the amount of drawback claimed by the exporter. This information is necessary to protect the revenue.

Current Actions: There are no changes to this information collection or its estimated burden, and TTB is submitting it for extension purposes only.

Type of Review: Extension of a currently approved collection.

Affected Public: Businesses or other for-profits.

Estimated Annual Burden

• Number of Respondents: 40.

• Average Responses per Respondent: 4.

• Number of Responses: 160.

• Average per-response Burden: 67 minutes.

• Total Burden: 179 hours.

OMB Control No. 1513-0031

Title: Specific and Continuing Transportation Bonds—Distilled Spirits or Wines Withdrawn for Transportation to Manufacturing Bonded Warehouse, Class Six.

TTB Form Number: TTB F 5100.12 and F 5110.67.

Abstract: The IRC at 26 U.S.C. 5214(a)(6) and 5362(c)(4) authorizes the transfer without payment of tax of, respectively, distilled spirits and wine from a bonded premises to certain customs bonded warehouses. Under 19 U.S.C. 1311, bonds are required for such transfers to protect the revenue. In order to provide proprietors of manufacturing bonded warehouses with operational flexibility based on individual need, TTB allows the filing of either a specific bond to cover a single shipment, using form TTB F 5100.12, or a continuing bond to cover multiple shipments, using form TTB F 5110.67.

Current Actions: There are no changes to this information collection or its estimated burden, and TTB is submitting it for extension purposes only.

Type of Review: Extension of a currently approved collection.

Affected Public: Businesses or other for-profits.

Estimated Annual Burden

• Number of Respondents: 50.

• Average Responses per Respondent: One.

• Number of Responses: 50.

• Average per-response Burden: 1 hour.

• Total Burden: 50 hours.

OMB Control No. 1513-0056

Title: Distilled Spirits Plants—Transaction and Supporting Records.

TTB Recordkeeping Number: TTB REC 5110/05.

Abstract: In general, the IRC at 26 U.S.C. 5001 imposes Federal alcohol excise tax on distilled spirits produced or imported into the United States. The IRC at 26 U.S.C. 5207 provides that the proprietor of a distilled spirits plant (DSP) must maintain records related to their production, storage, denaturing, and processing activities, and must render reports covering those activities. In addition, other IRC sections, including 26 U.S.C. 5008, 5062, 5201, 5204, 5211-5215, 5223, 5362, 5370, 5373, 5555, and 5559, place various requirements on DSPs that authorize or require recordkeeping. Under those IRC authorities, the TTB regulations in 27 CFR part 19, require DSP proprietors to keep records regarding their production, storage, denaturing, and processing activities, which DSP proprietors use to generate monthly operations reports (approved under other OMB control numbers) regarding those activities. In addition, under the regulations in 27 CFR parts 19, 26, 27, and 28, DSP proprietors also must keep certain other records, including records related to shipment and transfer of alcohol, plant security, wine tax credit, and alternation of premises. The collected information is necessary to protect the revenue.

Current Actions: There are no program changes associated with this information collection. However, due to a change in agency estimates resulting from continued growth in the number of distilled spirits plants in the United States, TTB is increasing the number of annual respondents, responses, and burden hours reported for this collection.

Type of Review: Extension of a currently approved collection.

Affected Public: Businesses and other for-profits.

Estimated Annual Burden

• Number of Respondents: 3,340.

• Average Responses per Respondent: Once per year.

• Number of Responses: 3,340.

• Average per-response Burden: 21.8 hours.

• Total Burden: 72,812.

OMB Control No. 1513-0061

Title: Letterhead Applications and Notices Relating to Denatured Spirits.

TTB Recordkeeping Number: TTB REC 5150/2.

Abstract: Under the IRC at 26 U.S.C. 5214, denatured spirits (alcohol to which denaturants have been added to render it unfit for beverage purposes) may be withdrawn from distilled spirits plants free of tax for nonbeverage industrial purposes in the manufacture of certain personal and household products. Since it is possible to recover potable alcohol from denatured spirits and articles made with denatured spirits, the IRC at 26 U.S.C. 5271-5275 sets forth provisions relating to denatured spirits and articles made with denatured spirits. Under those IRC authorities, the TTB regulations in 27 CFR part 20 require specially denatured spirits (SDS) dealers and manufacturers of nonbeverage products made with denatured alcohol to apply for and obtain a permit. In addition, the part 20 regulations that concern this information collection require such permit holders to submit letterhead applications and notices to TTB regarding certain changes to permit information, use of alternate methods and emergency variations from requirements, adoption or use of certain formulas, discontinuance of business, losses in transit, and requests to waive certain sample shipment and invoice requirements. The information collected implements the IRC's statutory provisions regarding denatured spirits.

Current Actions: While there are no changes to the information collected, TTB is submitting this collection as a revision as a matter of agency discretion. TTB notes that this collection consists of letterhead applications and notices submitted to TTB and, as such, this collection should be characterized as a reporting requirement, rather than as a recordkeeping requirement as previously reported. In addition, due to changes in agency estimates resulting from growth in the number of SDS dealers and in the number of nonbeverage product manufacturers, TTB is increasing the number of respondents, responses, and burden hours associated with this collection.

Type of Review: Revision of a currently approved collection.

Affected Public: Businesses or other for-profits; and State, local, and tribal governments.

Estimated Annual Burden

• Number of Respondents: 5,000.

• Average Responses per Respondent: One.

• Number of Responses: 5,000.

• Average per-response Burden: 30 minutes.

• Total Burden: 2,500 hours.

OMB Control No. 1513-0086

Title: Marks on Equipment and Structures (TTB REC 5130/3), and Marks and Labels on Containers of Beer (TTB REC 5130/4).

Abstract: Under the authority of chapter 51 of the IRC (26 U.S.C. chapter 51), the TTB regulations require marks, signs, and suitable measuring devices at breweries to identify the use and capacity of brewery equipment and structures and the contents of tanks, as well as to identify taxpaid and nontaxpaid beer. To identify products for purposes of administering the IRC's excise tax provisions, the TTB regulations also require marks, labels, and brands on kegs, cases, cans, and bottles of beer. These marks, labels, and brands identify the name or trade name of the brewer, the place of production of the beer, the contents of the container, and the nature of the product (beer, ale, etc.). The placement of the required disclosures and information on brewery structures, equipment, and products is a usual and customary business practice.

Current Actions: There are no program changes associated with this information collection. However, due to a change in agency estimates resulting from continued growth in the number of breweries in the United States, TTB is increasing the number of annual respondents and responses reported for this collection. However, as an information collection involving usual and customary business practices, the estimated total burden associated with this collection requirement, zero hours, remains unchanged.

Type of Review: Revision of a currently approved collection.

Affected Public: Businesses and other for-profits.

Estimated Annual Burden

• Number of Respondents: 10,000.

• Average Responses per Respondent: One.

• Number of Responses: 10,000.

• Average per-response and Total Burden: None. (Per the OMB regulation at 5 CFR 1320.3(b)(2), there is no burden associated with usual and customary business practices such as the marking and labeling of structures, equipment, and product containers.

OMB Control No. 1513-0111

Title: COLAs Online Access Request.

TTB Form Number: TTB F 5013.2.

Abstract: Respondents use this form to apply for access to TTB's COLAs Online system, which allows alcohol beverage industry members to electronically apply for a Certificate of Label Approval (COLA) or for an exemption from label approval. TTB uses the provided information to identify the company on whose behalf the applicant claims to act, to verify the scope of the applicant's authority to act, and to evaluate the applicant's qualifications for access to the COLAs Online system before TTB issues that person a password allowing access to this TTB web-based information system. Controlling access to TTB computer systems is necessary to protect the COLAs Online system from unauthorized users and other threats.

Current Actions: There are no changes to this information collection or its estimated burden, and TTB is submitting it for extension purposes only.

Type of Review: Extension of a currently approved collection.

Affected Public: Individuals or households.

Estimated Annual Burden

• Number of Respondents: 3,000.

• Average Responses per Respondent: One.

• Number of Responses: 3,000.

• Average per-response Burden: 18 minutes.

• Total Burden: 900 hours.

OMB Control No. 1513-0124

Title: Customer Satisfaction Surveys for Permit Applications, Permits Online (PONL), Formulas Online (FONL), and COLAs Online.

Abstract: As part of TTB's efforts to improve customer service, we survey customers who submit applications for original or amended permits, or for approval of formulas or certificates of label approval (COLAs). These surveys assist TTB in identifying potential customer needs and problems, along with opportunities for improvement in our applications processes, with particular focus on customer experiences with TTB's various electronic application systems, Permits Online (PONL), Formulas Online (FONL), and COLAs Online.

Current Actions: There are no changes to this voluntary information collection or its estimated burden, and TTB is submitting it for extension purposes only.

Type of Review: Extension of a currently approved collection.

Affected Public: Businesses or other for-profits.

Estimated Annual Burden

• Number of Respondents: 30,000.

• Average Responses per Respondent: One.

• Number of Responses: 30,000.

• Average per-response Burden: 12 minutes.

• Total Burden: 6,000 hours.

Dated: November 14, 2019.
Amy R. Greenberg,
Director, Regulations and Rulings Division.

[FR Doc. 2019-25037 Filed 11-15-19; 8:45 am]

BILLING CODE 4810-31-P